GENERAL SERVICES ADMINISTRATION

[Notice-GTAC-2013-03; Docket No. 2013-0002; Sequence 30]

Government-Wide Travel Advisory Committee (GTAC); Public Advisory Committee Meetings

AGENCY: Office of Government-Wide Policy, General Services Administration (GSA).

ACTION: Notice.

SUMMARY: This notice announces the cancellation of the GTAC November 7, 2013 meeting originally published on September 12, 2013 in the Federal Register. This notice also confirms the GTAC meeting scheduled for December 10, 2013.

DATES: The meeting will be held on Tuesday, December 10, 2013, beginning at 9:00 a.m. and ending no later than 4:00 p.m. Eastern Standard Time.

FOR FURTHER INFORMATION CONTACT: Ms. Marcerto Barr, Designated Federal Officer (DFO), Government-wide Travel Advisory Committee (GTAC), Office of Government-wide Policy, General Services Administration, 1800 F Street NW., Washington, DC 20405, 202-208-7654 or by email to: gtac@gsa.gov.

SUPPLEMENTARY INFORMATION: This notice announces the cancellation of the GTAC November 7, 2013 meeting originally published in the Federal Register at 78 FR 56231 on September 12, 2013. The purpose of the GTAC is to conduct public meetings, submit reports and to make recommendations to existing travel policies, processes and procedures, including the per diem methodology to assure that official travel is conducted in a responsible manner with the need to minimize costs.

Dated: October 24, 2013.
Carolyn Austin-Diggs,
Acting Deputy Associate Administrator, Office of Asset and Transportation Management, Office of Government-wide Policy.

[FR Doc. 2013-25669 Filed 10-29-13; 8:45 am]

BILLING CODE 6820-14-P